DEPARTMENT OF HOUSING AND URBAN DEVELOPMENT

[Docket No. FR-4837-D-31]

Redelegation of Authority for the Title VI Loan Guarantee Program

AGENCY: Office of the Assistant Secretary for Public and Indian Housing, HUD.

ACTION: Notice of redelegation of authority.

SUMMARY: In this notice, the Assistant Secretary for Public and Indian Housing redelegates the authority to administer the Title VI Loan Guarantee Program to the Director, Office of Loan Guarantee Program in the Office of Native American Programs of the Office of Public and Indian Housing.

EFFECTIVE DATE: July 18, 2003.

FOR FURTHER INFORMATION CONTACT: Edward Fagan, Office of Native American Programs, Office of Public and Indian Housing, Department of Housing and Urban Development, 451 Seventh Street, SW., Room 4126, Washington, DC 20410-5000; telephone (202) 401-7914 (this is not a toll-free number). For those needing assistance, this number may be accessed through TTY by calling the toll-free Federal Information Relay Service at 1-800-877-8339.

SUPPLEMENTARY INFORMATION: The Title VI Loan Guarantee Program is authorized under Title VI of the Native American Assistance and Self-Determination Act of 1996 (25 U.S.C. 4101 et seq.). The program seeks to provide innovative ways to enhance economic growth, increase access to private capital, and encourage investment and participation of financial institutions on Indian reservations and other Native American areas. To that end, the Title VI Loan Guarantee program assists Indian Housing Block Grant recipients who want to finance eligible affordable housing activities, but are unable to secure financing without the assistance of a federal guarantee. This notice redelegates the authority to administer the Title VI Loan Guarantee program to the Director of the Office of Loan Guarantee Program in the Office of Native American Programs of the Office of Public and Indian Housing.

Section A. Authority Redelegated

The Assistant Secretary for Public and Indian Housing redelegates authority and power with respect to the Title VI Loan Guarantee program to the Director, Office of Loan Guarantee, in the Office of Native American Programs of the Office of Public and Indian Housing.

Section B. Authority Excepted

The authority redelegated under Section A does not include: (1) The authority to issue or waive regulations; (2) the authority to sue and be sued; or (3) the authority to effect remedies for noncompliance requiring notice and an opportunity for an administrative hearing.

Authority: Section 7(d), Department of Housing and Urban Development Act (42 U.S.C. 3535(d)).

Dated: July 18, 2003.
Michael Liu,
Assistant Secretary for Public and Indian Housing.

[FR Doc. 03-22847 Filed 9-8-03; 8:45 am]

BILLING CODE 4210-33-P